DEPARTMENT OF THE TREASURY

Financial Management Service; Senior Executive Service: Combined Performance Review Board (PRB)

AGENCY: Financial Management Service, Department of the Treasury.

ACTION: Notice of Members of Combined Performance Review Board.

SUMMARY: Pursuant to 5 U.S.C. 4314(c)(4), this notice announces the appointment of the members of the Combined Performance Review Board (PRB) for the Financial Management Service (FMS), Bureau of Engraving and Printing (BEP), the Bureau of the Public Debt (BPD), the United States Mint and the Alcohol and Tobacco Tax and Trade Bureau (TTB). The Board reviews the performance appraisals of career senior executives below the level of bureau head and principal deputy in the bureaus, except for executives below the Assistant Commissioner/Executive Director level in the Financial Management Service and Bureau of the Public Debt. The Board makes recommendations regarding proposed performance appraisals, ratings, bonuses, pay adjustments and other appropriate personnel actions.

Composition of Combined PRB: The Board shall consist of at least three voting members. In the case of an appraisal of a career appointee, more than half of the members shall consist of career appointees. The names and titles of the Combined PRB members are as follows:

Primary Members

Rita Bratcher, Assistant Commissioner, Debt Management Services, FMS; Pamela J. Gardiner, Deputy Director, BEP; Andrew Brunhart, Deputy Director, United States Mint; Anita Shandor, Assistant Commissioner, Office of Financing, BPD; John J. Manfreda, Administrator, TTB.

Alternate Members

Wanda Rogers, Assistant Commissioner, Payment Management, FMS; Scott Wilson, Associate Director, Management, BEP; Marty Greiner, Chief Financial Officer, United States Mint; Lori Santamorena, Executive Director, Government Securities Regulations Staff, BPD; Vicky I. McDowell, Deputy Administrator, TTB.

DATE: Membership is effective on 09-30-2008.

FOR FURTHER INFORMATION CONTACT: Terry Ford, Director, Human Resources Division, Financial Management Service, 3700 East West Hwy., Hyattsville, MD 20782, Telephone Number: 202-874-7080.

Dated: September 30, 2008.
Judith R. Tillman,
Commissioner, Financial Management Service.

[FR Doc. E8-24435 Filed 10-15-08; 8:45 am]

BILLING CODE 4810-35-M